NUCLEAR REGULATORY COMMISSION

[Docket Nos. 50-277 and 50-278]

Exelon Generation Company, LLC, PSEG Nuclear LLC; Peach Bottom Atomic Power Station, Units 2 and 3; Notice of Withdrawal of Application for Amendment to Renewed Facility Operating Licenses

The U.S. Nuclear Regulatory Commission (the Commission) has granted the request of Exelon Generation Company, LLC (the licensee), to withdraw its application of July 14, 2003, as supplemented on March 15, April 23, May 20, December 8, and December 17, 2004, and January 21, 2005, for proposed amendment to Renewed Facility Operating License Nos. DPR-44 and DPR-56 for the Peach Bottom Atomic Power Station, Units 2 and 3, located in York County, Pennsylvania.

The proposed amendment would have revised the Technical Specifications to allow the use of an alternate source term.

The Commission had previously issued a Notice of Consideration of Issuance of Amendment published in the Federal Register on October 14, 2003 (68 FR 59216). By letter dated May 10, 2005, the licensee withdrew the proposed change.

For further details with respect to this action, see the application for amendment dated July 14, 2003, as supplemented on March 15, April 23, May 20, December 8, December 17, 2004, and January 21, 2005, and the licensee's letter dated May 10, 2005, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS should contact the NRC PDR Reference staff by telephone at 1-800-397-4209, 301-415-4737, or by e-mail to pdr@nrc.gov.

Dated in Rockville, Maryland, this 29th day of June 2005.
For the Nuclear Regulatory Commission.
George F. Wunder,
Project Manager, Section 2, Project Directorate I, Division of Licensing Project Management, Office of Nuclear Reactor Regulation.

[FR Doc. E5-3559 Filed 7-6-05; 8:45 am]

BILLING CODE 7590-01-P